DEPARTMENT OF AGRICULTURE

Food and Nutrition Service

Agency Information Collection Activities: Proposed Collection; Comment Request—Supplemental Nutrition Assistance Program (SNAP), Store Applications, Forms FNS-252, FNS-252-C, FNS-252-E, FNS-252-FE, FNS-252-R and FNS-252-2

AGENCY: Food and Nutrition Service (FNS), USDA.

ACTION: Notice.

SUMMARY: In accordance with the Paperwork Reduction Act of 1995, this notice invites the general public and other public agencies to comment on the proposed collection. This is a revision of a currently approved collection in the Supplemental Nutrition Assistance Program and concerns Retail Store Applications (Forms FNS-252; FNS-252-C, FNS-252-E; FNS-252-FE; FNS-252-R and FNS-252-2).

DATES: Written comments must be received on or before September 4, 2020.

ADDRESSES: Comments are invited on: (a) Whether the proposed collection of information is necessary for the proper performance of the functions of the agency, including whether the information shall have practical utility; (b) the accuracy of the agency's estimate of the burden of the proposed collection of information, including the validity of the methodology and assumptions used; (c) ways to enhance the quality, utility and clarity of the information to be collected; and (d) ways to minimize the burden of the collection of information on those who are to respond, including through the use of appropriate automated, electronic, mechanical or other technological collection techniques or other forms of information technology.

Comments may be sent to: Linda Sung-Lee, Acting Chief, Retailer Administration Branch, Supplemental Nutrition Assistance Program, Retailer Policy and Management Division, Food and Nutrition Service, U.S. Department of Agriculture, 1320 Braddock Place, Room 5042, Alexandria, VA 22314. Comments may be faxed to the attention of Ms. Sung-Lee at (703) 305-1863 or via email to: RPMDHQ-WEB@usda.gov. Comments will also be accepted through the Federal eRulemaking Portal. Go to http://www.regulations.gov, and follow the online instructions for submitting comments electronically.

All written comments will be open for public inspection at the FNS office located at 1320 Braddock Place, Room 5042, Alexandria, Virginia 22314, during regular business hours (8:30 a.m. to 5 p.m. Monday through Friday).

All responses to this notice will be summarized and included in the request for Office of Management and Budget approval. All comments will be a matter of public record.

FOR FURTHER INFORMATION CONTACT: Requests for additional information or copies of this information collection should be directed to Linda Sung-Lee at RPMDHQ-WEB@usda.gov.

SUPPLEMENTARY INFORMATION: Title: Supplemental Nutrition Assistance Program (SNAP)—Store Applications.

Form Number: FNS-252; 252-E; 252-FE; 252-R; 252-2; and 252-C.

OMB Number: 0584-0008.

Expiration Date: January 31, 2021.

Type of Request: Revision of a currently approved collection of information.

Abstract: Section 9(a) of the Food and Nutrition Act of 2008, as amended, (the Act) (7 U.S.C. 2011 et. seq.) requires that FNS determine the eligibility of retail food stores and certain food service organizations to accept SNAP benefits and to monitor them for compliance and continued eligibility and to ensure Program integrity.

FNS is also responsible for requiring updates to application information and reviewing retail food store applications at least once every five years to ensure that each firm is under the same ownership and continues to meet eligibility requirements. The Act specifies that only those applicants whose participation will “effectuate the purposes of the program” should be authorized.

There are six forms associated with this approved Office of Management and Budget (OMB) information collection number 0584-0008—the Supplemental Nutrition Assistance Program Application for Stores, Forms FNS-252 (English and Spanish) and FNS-252-E (paper and online version respectively); Farmer's Market Application, Form FNS-252-FE; Meal Service Application, Form FNS-252-2; Reauthorization Application, Form FNS-252-R; and the Corporation Supplemental Application, Form FNS-252-C used for individual (chain) stores under a corporation. For new authorizations, the majority of applicants use form FNS-252 or FNS-252-E (paper or online, respectively). For reauthorization, form FNS-252-R is used. In addition to these forms, during new authorization or reauthorization, FNS may conduct an on-site store visit of the firm. The store visit of the firm helps FNS confirm that the information provided on an application is correct. An FNS representative or store visit contractor obtains permission to complete the store visit checklist, photograph the store and asks the store owner or manager about the continued ownership of the store.

Applicants using form FNS-252-E or FNS-252-FE must self-register for a Level 1 access account through the USDA eAuthentication system prior to starting an online application. USDA eAuthentication facilitates the electronic authentication of an individual.

The Agricultural Act of 2014 (2014 Farm Bill) amended the Food and Nutrition Act of 2008 (the Act) and the Supplemental Nutrition Assistance Program (SNAP) revised all retailer application forms (paper and electronic) in January, 2018, as a result of regulatory changes required by the Act and amended by the 2014 Farm Bill.

FNS seeks to renew the current information collection, and where appropriate, revise the information collection for all SNAP application forms (paper and electronic) to clarify questions, instructions and examples concerning stocking units of staple food varieties on a continuous basis and to add Individual Taxpayer Identification Number (ITIN) as an alternative form of documentation that respondents may submit to FNS in lieu of a Social Security Number. Such changes would include (1) replacing “each variety” with “at least three varieties”; (2) adding one additional inventory stock example in each staple food category; (3) updating assistance materials such as General and Specific Instruction sections and on-line help screens; (4) inserting “ITIN” in the third, fourth, and seventh bullet of the Use and Disclosure—Routine Uses section; and (5) deleting the last two sentences in the last bullet of the Certification and Signature Statement regarding the General Service Administration's (GSA) System for Award Management (SAM). Upon advice of counsel, FNS no longer follows this business practice. FNS also intends to make minor grammatical changes for clarity along with design changes by adding spacing and horizontal lines separating Questions 21-26 and revise FNS' address listed in the Privacy Act and Paperwork Reduction Notice section. Due to recent SNAP website updates, FNS is also updating three website links within the application instructions. The links are: How to Apply; Contacting the RSC; and Retailer Training. Additionally, where applicable, the changes listed above will also be made to the following application forms: FNS-252-2; FNS-252-C, FNS-252-R, FNS-252-E and FNS-252 Spanish.

FNS estimates that the hourly burden time per response associated with this information collection for respondents remains unchanged from our previous submission. The revisions to the application(s) are due to program adjustments and the update to Question 20a-d, the revision to the Privacy Act, Use and Disclosure—Routine Uses section, and the Certification and Signature Statement.

FNS used FY 2019 data in our calculation of burden estimates associated with this information collection as this was the most complete data available to us at this time. Table A below clarifies the burden of this information collection.

As currently approved by OMB, the hourly burden rate per response varies by the type of application used and the response time per respondent varies from 1 minute to 19 minutes. We estimate the new burden, on average, to be 9.13 minutes per respondent. There is no recordkeeping burden associated with these forms.

Affected Public: Business for Profit; Retail food stores; Farmers' Markets, Military Commissaries and Meal Services.

Estimated Number of Respondents: The total estimated number of respondents is 133,961 annually.

Estimated Number of Responses per Respondent: Respondents complete either 1 application form at initial authorization or 1 reauthorization application, as appropriate, for a total of 1 response each.

Estimated Total Annual Responses: 133,961.

Estimated Time per Response: 9.13 minutes (0.1534924). The estimated time response varies from 1 minute to 19 minutes depending on respondent group, as shown in the table below:

Table A—Reporting Estimate of Hour Burden: Summary of Burden—#0584-0008
Affected public | Respondent type | (a) Description of collection activity | (b) Form No. | (c) Number respondents | (d) Number responses per respondent | (e) Total annual responses (cxd) | (f) Hours per response | (g) Total burden (exf)
Reporting
Farms, Business for not for profit | SNAP Retailer, Farmers' Market, and Meal Service | Applications Received Applications Received | 252 252-E | 1,467 28,556 | 1 1 | 1,467 28,556 | 0.3167 0.25 | 464.59 7,139
|  | E-Authentication | 252-E and FNS-252-FE | 29,509 | 1 | 29,509 | 0.1336 | 3,942.40
|  | Applications Received | 252-FE | 953 | 1 | 953 | 0.25 | 238.25
|  | Applications Received | 252-2 | 571 | 1 | 571 | 0.25 | 142.75
|  | Applications Received | 252-C | 4,574 | 1 | 4,574 | 0.25 | 1,143.50
|  | Store Visits |  | 40,624 | 1 | 40,624 | 0.0167 | 678.42
|  | Reauthorization | 252-R | 27,703 | 1 | 27,703 | 0.25 | 6,925.75
Sub-Total For Farm & Business | 133,957 | 1 | 133,957 | 0.1524872 | 20,560.69
Federal | Military Commissaries | Applications Received | 252-E | 4 | 1 | 4 | 0.3167 | 1.26
|  | Reauthorization | 252-R | 0 | 1 | 0 | 0.25 | 0
Sub-Total For Federal Respondents | 4 | 1 | 4 | 0.3167 | 1.26
Grand Total Reporting Burden | 133,961 | 1 | 133,961 | 0.153492 | 20,561.95
SUMMARY OF BURDEN FOR THIS COLLECTION | 133,961 | 1 | 133,961 | 0.1534924 | 20,562
* Note: the respondents for the 252-E and the 252-FE are the same respondents for e-Authentication and therefore not double counted in the total number of respondents.

Pamilyn Miller,
Administrator, Food and Nutrition Service.

[FR Doc. 2020-14446 Filed 7-2-20; 8:45 am]

BILLING CODE 3410-30-P